DEPARTMENT OF AGRICULTURE

Forest Service

Final Tropic to Hatch 138 kV Transmission Line Project Environmental Impact Statement and Proposed Grand Staircase-Escalante National Monument Management Plan Amendment

AGENCY: Forest Service, USDA; Bureau of Land Management, USDI and National Park Service, USDI.

ACTION: Notice of availability

SUMMARY: In accordance with the National Environmental Policy Act of 1969, as amended, and the Federal Land Policy and Management Act of 1976, as amended, the Forest Service (FS), with the Bureau of Land Management (BLM) and National Park Service (NPS) as cooperating agencies, has prepared a Final Environmental Impact Statement (FEIS) for the Tropic to Hatch 138 kV Transmission Line Project and a Proposed Management Plan Amendment (PMPA) for the Grand Staircase-Escalante National Monument, and by this notice is announcing its availability.

DATES: BLM planning regulations state that any person who meets the conditions as described in the regulations may protest the BLM's PMPA/FEIS. A person who meets the conditions and files a protest must file the protest within 30 days of the date that the Environmental Protection Agency publishes this Notice of Availability in the Federal Register.

ADDRESSES: Copies of the Tropic to Hatch 138 kV Transmission Line Project FEIS/PMPA for the Grand Staircase-Escalante National Monument have been sent to affected Federal, State, and local government agencies and to other stakeholders. Copies of the FEIS/PMPA are available for public inspection at the following BLM offices: Grand Staircase-Escalante National Monument Headquarters, 190 E. Center Street, Kanab, UT; Kanab Field Office, 318 N 100 E, Kanab, UT; Utah State Office, 440 W 200 S, Salt Lake City, UT. Interested persons may also download and/or review the FEIS/PMPA on the Internet at http://fs.usda.gov/goto/dixie/projects.

All protests related to the Grand Staircase Escalante National Monument PMPA must be in writing and mailed to one of the following addresses:

Regular mail | Overnight mail
BLM Director (210), Attention: Brenda Williams, P.O. Box 71383, Washington, DC 20035 | BLM Director (210), Attention: Brenda Williams, 20 M Street, SE, Room 2134LM, Washington, DC 20036.

FOR FURTHER INFORMATION CONTACT: Ms. Susan Baughman, Dixie National Forest, USDA Forest Service, Tropic to Hatch 138kV Transmission Line Project EIS Project Leader, 1789 N. Wedgewood Lane, Cedar City, Utah 84720 or; Matthew Betenson, Assistant Grand Staircase-Escalante National Monument Manager—Planning and Support Services, 190 E Center, Kanab, Utah 84741/phone (435) 644-4309.

SUPPLEMENTARY INFORMATION: The FEIS/PMPA evaluates the environmental effects of the construction, operation, and maintenance of the Tropic to Hatch 138 kV Transmission Line proposed by Garkane Energy Cooperative in Garfield County, Utah, on lands currently managed by the U.S. Forest Service, Dixie National Forest; U.S. Bureau of Land Management, Kanab Field Office, Grand Staircase-Escalante National Monument; State of Utah School and Institutional Trust Lands Administration; and potentially the National Park Service, Bryce Canyon National Park. The transmission line would be approximately 30 miles long, beginning in Tropic, Utah and extending west to Hatch, Utah. Associated Federal actions include Dixie National Forest issuance of a special use easement, Bureau of Land Management issuance of a right-of-way, proposed amendment to the Grand Staircase-Escalante National Monument Management Plan and issuance of a right-of-way, potential Bryce Canyon National Park issuance of a special park permit for a right-of-way, and Utah School and Institutional Trust Lands Administration issuance of a right-of-way for construction and operation of the project. The Preferred Alternative in the FEIS/PMPA would amend the Grand Staircase-Escalante National Monument Management Plan (2000) by: (a) Designating a 300-foot wide Passage Zone along an approximate three and three-quarter mile path through an area currently designated as Primitive Zone in the Monument Management Plan, and (b) changing the existing VRM Class designation from Class II to Class III within this linear area. The plan amendment decisions would be necessary to accommodate the potential new transmission line.

Comments on the Draft RMP/Draft EIS Plan Amendment were received from the public and from internal interagency governmental review. These comments were considered and incorporated as appropriate into the FEIS/PMPA. Public comments resulted in the addition of clarifying text, but did not significantly change the FEIS/PMPA. This final document is expected to be used in conjunction with the Draft EIS published in December 2009. The two documents, together, make up the FEIS/PMPA for the Tropic to Hatch 138 kV Transmission Line.

Instructions for filing a protest with the Director of the BLM regarding the FEIS/PMPA may be found in the “Dear Reader Letter” of the Tropic to Hatch 138 kV Transmission Line FEIS and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 912-7212, and e-mails to Brenda_Hudgens-Williams@blm.gov.

All protests, including the follow-up letter to e-mails or faxes, must be in writing and mailed to the appropriate address, as set forth in the ADDRESSES section above. Before including your phone number, e-mail address, or other personal identifying information in your protest, you should be aware that your entire protest—including your personal identifying information—may be made publicly available at any time. While you can ask us in your protest to withhold your personal identifying information from public review, we cannot guarantee that we will be able to do so.

Authority: 42 U.S.C. 4321-4347, 40 CFR 1500-1508, 43 CFR 1610.2, 43 CFR 1610.5, and 36 CFR 220.

Dated: March 24, 2011.
Robert G. MacWhorter,
Forest Supervisor—Dixie National Forest.

[FR Doc. 2011-8062 Filed 4-7-11; 8:45 am]

BILLING CODE P